DEPARTMENT OF JUSTICE

[AAG/A Order No. 204-2000]

Privacy Act of 1974; System of Records

Pursuant to the provisions of the Privacy Act of 1974 (5 U.S.C. 552a), notice is given that the Department of Justice proposes to establish a new office-wide system of records for the Office of Special Counsel—Waco (OSCW) entitled “CaseLink Document Database for Office of Special Counsel—Waco,” JUSTICE/OSCW-001.

This system will maintain all documents collected by the Office of Special Counsel (OSC) from third party sources, including documents produced by other federal agencies in response to requests from this office, as well as all the memoranda of interviews conducted by the OSC during its inquiry into government conduct relative to certain events occurring in Waco, Texas.

In accordance with 5 U.S.C. 552a (e) (4) and (11), the public is given a 30-day period to comment; and the Office of Management and Budget (OMB), which has oversight responsibility under the Act, requires a 40-day period in which to conclude its review of the system. Therefore, please submit any comments by October 5, 2000. The public, OMB, and the Congress are invited to submit any comments to Thomas E. Wack, Office of Special Cousnel—Waco, 200 N. Broadway, 15th Floor, St. Louis, Missouri 63102.

In accordance with 5 U.S.C. 552a(r), the Department has provided a report to the OMB and the Congress.

Dated: August 28, 2000.
Stephen R. Colgate,
Assistant Attorney General for Administration.

OSCW-001

System Name:

CaseLink Document Database for Office of Special Counsel—Waco.

Security Classification:

Unclassified.

System Location:

Office of Special Council-Waco, 200 N. Broadway, 15th Floor, St. Louis, Missouri 63102.

Categories of individuals covered by the system:

Individuals who are referenced in documents collected or created by the Office of Special Counsel, relating to the investigation of the events occurring in Waco, Texas on April 19, 1993.

Categories of Records in the System:

The system contains documents produced by other federal agencies in response to requests from this office, court records (such as briefs, motions, transcripts from grand jury testimony, and orders), inter-agency and intra-agency correspondence, legal research, and other related documents. These documents include civil investigatory and/or criminal law enforcement information. Finally, the system includes memoranda of interviews (MOIs) conducted by the OSC.

Authority for Maintenance of the System:

The system was established and is maintained pursuant to 5 U.S.C. 301, 44 U.S.C. 3101 and 28 U.S.C. 509 and 510.

Purpose(s):

The purpose of this system is to maintain all documents collected by the Office of Special Counsel (OSC) as well as all the memoranda of interviews conducted by the OSC during its inquiry into government conduct relative to certain events occurring in Waco, Texas.

Routine Uses of Records Maintained in the System, Including categories of users and the purposes of such uses:

Information contained in the system, including the memoranda of interviews (MOIs), may be disclosed from this system as follows:

(a) To other witnesses when necessary in order to obtain information to further the investigation of the OSC;

(b) To an actual or potential party or his attorney for the purpose of negotiation or discussion on such matters as settlement of the case or matter, plea bargaining, or informal discovery proceedings;

(c) To a Member of Congress or staff acting upon the Member's behalf when the Member or staff requests the information on behalf of, and at the request of, the individual who is the subject of the record;

(d) In the event that a record in this system, either alone or in conjunction with other information, indicates a violation or potential violation of law—criminal, civil, or regulatory in nature—the relevant records may be referred to the appropriate federal, state, local, foreign, or tribal law enforcement authority or other appropriate agency charged with the responsibility for investigating or prosecuting such violation or charged with enforcing or implementing such law;

(e) In a proceeding before a court or adjudicative body before which the Department of Justice is authorized to appear when (a) the Department of Justice, or any subdivision thereof, or (b) any employee of the Department of Justice in his or her official capacity, or (c) any employee of the Department of Justice in his or her individual capacity where the Department of Justice has agreed to represent the employee, or (d) the United States, where the Department of Justice determines that the litigation is likely to affect it or any of its subdivisions, is a party to litigation or has an interest in litigation and such records are determined by the Department of Justice to be arguably relevant to the litigation;

(f) To the news media and the public pursuant to 28 CFR 50.2 (Department of Justice regulations setting forth guidelines for disclosure of information to the media) unless it is determined that release of the specific information in the context of a particular case would constitute an unwarranted invasion of personal privacy;

(g) To the General Services Administration and National Archives and Records Administration in records management inspections conducted under the authority of 44 U.S.C. 2904 and 2096; and

(h) To contractors, student interns, or other employees of the OSC to the extent necessary to enable them to perform their assigned duties.

Policies and practices for storing, retrieving, retaining and disposing of records in the system:

Storage:

All information on this system is stored on a dedicated network server in electronic form. Some material is recorded and stored on other data processing storage forms.

Retrievability:

Records are retrieved by names or case numbers or other key word or search term.

Safeguards:

Information in this system is safeguarded in accordance with applicable rules and policies, including the Department's automated systems security and access policies. All information on the system is password protected and requires access to the OSC's secure internal network. All records and technical equipment are maintained in a central office with restricted access. The facility is secured by the Federal Protective Service.

Retention and Disposal:

Records of the investigation shall be transferred to the National Archives at the conclusion of the Special Counsel's work. Administrative and support records shall be disposed of in accordance with General Records Schedules issued by the National Archives and Records Administration (NARA). Standard Form 115, Request for Records Disposition Authority, is pending NARA approval.

System Manager(s) and Address:

John J. Sardar, Assistant Special Counsel, 200 N. Broadway, 15th Floor, St. Louis, Missouri 63102.

Notification Procedure:

Address inquiries to System Manager named above.

Record Access Procedure:

Requests for access must be in writing and should be addressed to the System Manager named above. The envelope and letter should be clearly marked “Privacy Act Access Request.” Include in the request the general subject matter of that document(s), and provide your full name and a certification of identity and a return address for response purposes. Some information may be exempt from access provisions as described in the section entitled “Systems Exempted from Certain Provisions of the Act.” An individual who is the subject of a record in this system may access those records that are not exempt from disclosure. A determination whether a record may be accessed will be made at the time a request is received.

Contesting Record Procedures:

Individuals desiring to contest or amend information maintained in the system should direct their request to the System Manager listed above, stating clearly and concisely what information is being contested, the reasons for contesting it, and the proposed amendment to the information sought. Some information may be exempt from contesting record procedures as described in the section entitled “Systems Exempted from Certain Provisions of the Act.” An individual who is the subject of a record in this system may amend those records that are not exempt. A determination whether a record may be amended will be made at the time a request is received.

Record Sources Categories:

Sources of information contained in this system include but are not limited to documents produced by other federal agencies in response to requests from this office; investigative reports; other non-Department of Justice forensic reports; statements of individuals who may have information or knowledge surrounding the events occurring in Waco, Texas on April 19, 1993; verbatim transcripts of deposition and court proceedings including grand jury testimony; public reports; memoranda and reports from court and other agencies; and the work product of the Office of Special Counsel attorneys, investigators, and staff.

Systems Exempted from Certain Provisions of the Act:

The Privacy Act authorizes an agency to promulgate rules to exempt any system of records (or part of a system of records) from certain Privacy Act requirements if the system of records is maintained by an agency which performs as its principal function any activity pertaining to the enforcement of criminal laws (5 U.S.C. 552a(j)), or is investigatory material compiled for law enforcement purposes (5 U.S.C. 552a(k)).

The Attorney General has exempted this system from the following Privacy Act requirements: subsections (c)(3) and (4); (d)(1), (2), (3), and (4); (e)(1), (2), (3), (5), and (8); and (g) of the Privacy Act pursuant to 5 U.S.C. 552a(j) and (k).

[FR Doc. 00-22674 Filed 9-1-00; 8:45 am]

BILLING CODE 4410-CJ-M